DEPARTMENT OF ENERGY

Federal Energy Regulatory Commission

[Docket No. CP18-116-001]

Texas Gas Transmission, LLC; Notice of Request for Extension of Time

Take notice that on May 5, 2023, Texas Gas Transmission, LLC (Texas Gas) requested that the Federal Energy Regulatory Commission (Commission) grant an extension of time, until June 26, 2025, to abandon certain pipeline facilities, including all related appurtenant and auxiliary facilities, originally authorized in the June 26, 2018 Order Approving Abandonment under section 7 of the Natural Gas Act and part 157 of the Commission's regulations (June 26, Order).¹ Ordering Paragraph (B) of the June 26 Order provided a deadline of June 26, 2019, to complete abandonment of the facilities.

¹ See Texas Gas Transmission, LLC, 163 FERC ¶ 62,218 (2018) (June 26 Order).

In its original application, Texas Gas proposed to abandon in-place approximately 11.0 miles of its 16-inch-diameter North Lake Pagie (NLP) pipeline and approximately 5.7 miles of its 16-inch-diameter Bay Junop-Bay Round (BJB) pipeline. In addition, Texas Gas proposed to abandon by removal two platforms including associated risers, piping, and appurtenances, appurtenant rock and concrete, two meters, and timber bulkheads and bulkhead signs at 33 locations along the pipeline right-of-way. The facilities are located approximately 22.1 miles southwest of Houma, Louisiana, extending offshore in Terrebonne Parish, Louisiana, as part of Texas Gas' Southeast Supply Lateral.²

² The Southeast Supply Lateral extends from Eunice, Louisiana eastward to Thibodaux, Louisiana.

On June 5, 2019, Texas Gas filed a request for an extension of time, until December 1, 2020, to complete abandonment activities, so as to continue ongoing landowner negotiations and to obtain the necessary environmental permits within the appropriate construction season. On June 10, 2019, the Commission granted an extension of time for one year, until and including June 26, 2020, to complete the abandonment activities.³

³ Texas Gas Transmission, LLC, Docket No. CP18-116-000 (June 10, 2019) (delegated order).

On May 26, 2020, Texas Gas filed a request for a further one-year extension of time, to June 26, 2021, to complete abandonment activities. Texas Gas stated that this extension of time would allow Texas Gas to complete ongoing landowner negotiations and to obtain the necessary environmental permits for the project. The Commission granted that extension of time on June 17, 2020.⁴

⁴ Texas Gas Transmission, LLC, Docket No. CP18-116-000 (June 17, 2020) (delegated order).

On April 12, 2021, Texas Gas filed another request for extension of time for an additional two years to complete its project originally authorized in the June 26 Order. Texas Gas requested an additional extension of time, until June 26, 2023, to complete abandonment activities authorized in the above referenced docket. Texas Gas stated that the extension was required to complete abandonment activities, continue ongoing landowner/agency negotiations, and to obtain the outstanding Coastal Use Permit to abandon the NLP/BJB pipeline. The Commission granted that extension of time on May 12, 2021.⁵

⁵ Texas Gas Transmission, LLC, Docket No. CP18-116-000 (May 12, 2021) (delegated order).

In this latest filing, Texas Gas now states that they have faced obstacles in securing agreeable terms with agencies and landowners to secure a Coastal Use Permit. Texas Gas also states that new species have been listed by the U.S. Fish and Wildlife Service (USFWS) that may be affected within the proposed project area and will require re-consultation with USFWS. Therefore, Texas Gas is requesting an additional two-year extension to address these issues.

This notice establishes a 15-calendar day intervention and comment period deadline. Any person wishing to comment on the applicant's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁶

⁶ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁷ the Commission will aim to issue an order acting on the request within 45 days.⁸ The Commission will address all arguments relating to whether the applicant has demonstrated there is good cause to grant the extension.⁹ The Commission will not consider arguments that re-litigate the issuance of the certificate order, including whether the Commission properly found the project to be in the public convenience and necessity and whether the Commission's environmental analysis for the certificate complied with the National Environmental Policy Act.¹⁰ At the time a pipeline requests an extension of time, orders on certificates of public convenience and necessity are final and the Commission will not re-litigate their issuance.¹¹ The OEP Director, or his or her designee, will act on all of those extension requests that are uncontested.

⁷ Contested proceedings are those where an intervenor disputes any material issue of the filing. 18 CFR 385.2201(c)(1) (2019).

⁸ Algonquin Gas Transmission, LLC, 170 FERC ¶ 61,144, at P 40 (2020).

⁹ Id. at P 40.

¹⁰ Similarly, the Commission will not re-litigate the issuance of an NGA section 3 authorization, including whether a proposed project is not inconsistent with the public interest and whether the Commission's environmental analysis for the permit order complied with NEPA.

¹¹ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room. For assistance, contact FERC at FERCOnlineSupport@ferc.gov or call toll-free, (886) 208-3676 or TTY, (202) 502-8659.

The Commission strongly encourages electronic filings of comments in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Comment Date: 5:00 p.m. Eastern Time on May 26, 2023.

Dated: May 11, 2023.
Debbie-Anne A. Reese,
Deputy Secretary.

[FR Doc. 2023-10515 Filed 5-16-23; 8:45 am]

BILLING CODE 6717-01-P